DEPARTMENT OF TRANSPORTATION

Transportation Security Administration

[Docket No. TSA-2001-11120].

Reports, Forms and Record Keeping Requirements Agency Information Collection Activity Under OMB Review

AGENCY: Transportation Security Administration, DOT.

ACTION: Notice.

SUMMARY: In compliance with the Paperwork Reduction Act of 1995 (44 U.S.C. 3501 et seq.), this notice announces that the Information Collection Request (ICR) abstracted below has been forwarded to the Office of Management and Budget (OMB) for extension of currently approved collection. The ICR describes the nature of the information collection and the expected burden and requests approval of forms to be used for data collection. The Federal Register Notice with an Emergency notice soliciting comments on the following collection of information was published on January 31, 2002 (67 FR 4866).

Comments: Comments should be directed to the Office of Information and Regulatory Affairs, Office of Management and Budget, 725 Seventeenth Street, NW., Washington, DC 20503, Attention: Desk Officer for the Transportation Security Administration. Comments are invited on whether the proposed collection of information is necessary for the proper performance of the functions of TSA, including whether the information will have practical utility; the accuracy of TSA's estimate of the burden of the proposed information collections; ways to enhance the quality, utility, and clarity of the information to be collected; and ways to minimize the burden of the collection of information on respondents, including the use of automated collection techniques or other forms of information technology.

DATES: Comments must be submitted on or before August 9, 2002. A comment to OMB is most effective if OMB receives it within 30 days of publication.

FOR FURTHER INFORMATION CONTACT: Steven Cohen, Office of the Chief Counsel, Transportation Security Administration, Department of Transportation at (202) 493-1216. 400 Seventh Street (TSA-5), SW., GSA room 5002, Washington, DC 20590.

SUPPLEMENTARY INFORMATION:

Transportation Security Administration (TSA)

Title: Imposition and Collection of Passenger Civil Aviation Security Service Fees.

Type of Request: Extension of a currently approved collection.

OMB Control Number: 2110-0001

Forms: September 11th Security Fees Quarterly Report Form (paper and online submission versions).

Frequency: On December 31, 2001, the Transportation Security Administration published an interim final rule imposing a security service fee (September 11th Security Fee) at 66 FR 67698. Imposition of this fee began February 1, 2002. Approximately 195 air carriers and foreign air carriers are expected to collect and remit the September 11th Security Fee. Each of these carriers are then responsible for (1) establishing and maintaining an accounting system to account for the September 11th Security Fees that are imposed, collected, refunded and remitted and (2) reporting this information to the Transportation Security Administration, U.S. Department of Transportation, on a quarterly basis. We further estimate that approximately 133 air carriers and foreign air carriers will also have to conduct an annual audit of their September 11th Security Fee activities and accounts.

Affected Public: The collection requirement applies to any direct air carrier or foreign air carrier providing air transportation, foreign air transportation, and intrastate air transportation originating at airports in the United States, on either (1) a scheduled passenger or public charter operation with an aircraft having passenger seating configuration of more than 60 seats or (2) a scheduled passenger or public charter passenger operation with an aircraft having a passenger seating configuration of less than 61 seats when passengers are enplaned from or deplaned into a sterile area. The further requirement to conduct an audit only applies to air carriers and foreign air carriers that collect September 11th Security Fees from more than 50,000 passengers annually.

Abstract: To pay for the costs of providing civil aviation security services as described in 49 U.S.C. § 44940, a uniform fee is imposed on passengers of air carriers and foreign air carriers providing air transportation, foreign air transportation, and intrastate transportation originating at airports in the United States. Approximately 195 air carriers and foreign air carriers are required to submit quarterly reports to TSA. In addition, the approximately 133 air carriers and foreign air carriers that collect the September 11th Security Fee from more than 50,000 passengers annually must conduct an audit of their fee collection and accounts and will have additional record keeping burdens.

Estimated Annual Burden Hours: Using the above estimate of 195 carriers a year who may have to submit quarterly reports, with an estimated 1 hour of preparation to collect and provide the information, at an assumed rate of $20 an hour, the annual estimated cost of collecting and preparing the information necessary for 780 quarterly reports is $15,600. Adding in a postage cost of $288.60 (780 reports at a cost of 37 cents to mail each one), we estimate that it will cost $15,888.60 a year to prepare and submit the information necessary to satisfy the general information collection requirement. Air carriers and foreign air carriers who will also have to conduct audits of their September 11th Security Fee activities and accounts will have an additional record-keeping burden. Using the above estimate of 133 carriers a year who may have to conduct audits, with an estimated 20 hours of preparation per audit, at an assumed rate of $150 an hour, the estimated cost of these audits is about $399,000 annually. The total estimated cost of preparing and submitting quarterly reports and conducting audits is $414,888.60 and the total estimated burden hours are 3,440. However, we believe the actual burden will be lower because TSA is providing a mechanism for the electronic submission of quarterly reports, which will reduce compliance time and costs.

Number of Respondents: We estimate that there will be 195 respondents per year for the general information collection and 133 respondents for the audit-related collection.

Summary of the Collection of Information: For purposes of collecting funds to pay for the costs of providing civil aviation security services as described in 49 U.S.C. 44940, air carriers and foreign air carriers will be required to track passenger emplanements involved in air transportation sold for flights originating at airports in the United States if the enplanement is on either (1) a scheduled passenger or public charter passenger operation with an aircraft having passenger seating configuration of more than 60 seats or (2) a scheduled passenger or public charter passenger operation with an aircraft having a passenger seating configuration of less than 61 seats when passengers are enplaned from or deplaned into a sterile area. These air carriers must submit quarterly reports on the total September 11th Security Fees imposed, collected, refunded and remitted for each month of the quarter.

Additionally, each air carrier and foreign air carrier that collects September 11th Security Fees from more than 50,000 passengers annually must provide for an audit at least annually of its September 11th Security Fee activities and accounts. The accountant conducting such an audit must include in it an opinion on whether (1) the direct air carrier's or foreign air carrier's procedures for collecting, holding, and remitting the fees are fair and reasonable; and (2) whether the quarterly reports fairly represent the net transactions in the security service fee accounts.

Issued on: July 5, 2002.
Robert Gardner,
Associate Under Secretary for Finance and Administration/CFO, Transportation Security Administration, Department of Transportation.

[FR Doc. 02-17351 Filed 7-9-02; 8:45 am]

BILLING CODE 4910-62-P